Memorandum of December 26, 2025

Delegation of Authority Under Section 614(a)(2) of the Foreign Assistance Act of 1961

Memorandum for the Secretary of State

By the authority vested in me as President by the Constitution and the laws of the United States of America, including section 301 of title 3, United States Code, I hereby delegate to the Secretary of State, subject to fulfilling the requirement of section 614(a)(3) of the Foreign Assistance Act of 1961 (FAA), the authority under section 614(a)(2) of the FAA to determine whether it is vital to the national security interests of the United States to make up to $25.9 million in sales of cluster munitions technology under the Arms Export Control Act to the Republic of Korea, without regard to any other provision of law within the purview of section 614(a)(2) of the FAA, and to authorize such sale.

You are authorized and directed to publish this memorandum in the Federal Register.

THE WHITE HOUSE,

Washington, December 26, 2025

[FR Doc. 2026-00698

Filed 1-13-26; 11:15 am]

Billing code 4710-10-P